DEPARTMENT OF HEALTH AND HUMAN SERVICES

Administration for Children and Families

Submission for OMB Review; Comment Request

Title: Permanency Innovations Initiative Evaluation: Phase 4

OMB No.: 0970-0408

Description: The Administration for Children and Families (ACF), U.S. Department of Health and Human Services (HHS) intends to collect additional data for an evaluation of the Permanency Innovations Initiative (PII). This 5-year initiative, funded by the Children's Bureau (CB) within ACF, is intended to build the evidence base for innovative interventions that enhance well-being and improve permanency outcomes for particular groups of children and youth who are at risk for long-term foster care and who experience the most serious barriers to timely permanency.

Data collection for the PII evaluation includes a number of components beginning at different points in time. Phase 1 (approved August 2012, OMB# 0970-0408) included data collection for a cross-site implementation evaluation and site-specific evaluations of two PII grantees (Washoe County, Nevada, and the State of Kansas). Phase 2 (approved August 2013) included data collection for two more PII grantees (Illinois DCFS and one of two interventions offered by the Los Angeles LGBTQ Center's Recognize Intervene Support Empower [RISE] project). Phase 3 (approved July 2014) included data collection for an evaluation of another PII grantee intervention and two additional cross-site PII studies. The grantee intervention was a second RISE intervention, the Care Coordination Team (CCT). The two PII cross-site studies were a cost study and an administrative data study.

The current request if for Phase 4 and includes data collection for another PII grantee, the California Department of Social Services' California Partnership for Permanency (CAPP) project.

Respondents: Spanish and English speaking biological parents, legal guardians, foster parents (or caregivers)

Annual Burden Estimates
Instrument | Total number of respondents | Annual number of respondents | Number of responses per respondent | Average burden hours per response | Total annual burden hours
CAPP Parent-Legal Guardian Questionnaire | 1673 | 558 | 1 | .6 | 335
CAPP Caregiver Questionnaire | 1763 | 587 | 1 | .6 | 352
CAPP annual burden hours |  |  |  |  | 687

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB COMMENT: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Reports Clearance Officer.

[FR Doc. 2015-29338 Filed 11-16-15; 8:45 am]

BILLING CODE 4184-01-P